DEPARTMENT OF COMMERCE

International Trade Administration

[A-570-920, C-570-921, A-428-840]

Lightweight Thermal Paper From the People's Republic of China and Germany: Continuation of the Antidumping and Countervailing Duty Orders on the People's Republic of China, Revocation of the Antidumping Duty Order on Germany

AGENCY: Enforcement and Compliance, International Trade Administration, Department of Commerce.

SUMMARY: As a result of the determinations by the Department of Commerce (the Department) and the International Trade Commission (ITC) in their five year (sunset) reviews that revocation of the antidumping duty (AD) order and the countervailing duty (CVD) order on lightweight thermal paper (LWTP) from the People's Republic of China (PRC) would likely lead to a continuation or recurrence of dumping and material injury to an industry in the United States, the Department is publishing a notice of continuation of the AD and CVD orders on LWTP from the PRC. In addition, as a result of the ITC's determination that revocation of the AD order on LWTP from Germany is not likely to lead to continuation or recurrence of material injury to an industry in the United States, the Department is revoking the AD order on LWTP from the Germany.

DATES: Effective Date: AD Germany Revocation: November 24, 2013; AD and CVD PRC Continuation: January 30, 2015.

FOR FURTHER INFORMATION CONTACT: David Goldberger, AD/CVD Operations, Office II, Enforcement and Compliance, International Trade Administration, U.S. Department of Commerce, 14th Street and Constitution Avenue NW., Washington, DC 20230; telephone: (202) 482-4136.

SUPPLEMENTARY INFORMATION:

Background

On November 24, 2008, the Department published the AD orders on LWTP from the PRC and Germany and the CVD order on LWTP from the PRC.¹ On October 1, 2013, the Department initiated ² and the ITC instituted ³ five-year (“sunset”) reviews of the AD orders on LWTP from the PRC and Germany, and the CVD order on LWTP from the PRC, pursuant to section 751(c) of the Tariff Act of 1930, as amended (the Act). As a result of its reviews, the Department determined that revocation of the AD orders on LWTP from the PRC and Germany would likely lead to a continuation or recurrence of dumping, and that revocation of the CVD order on LWTP from the PRC would likely lead to continuation or recurrence of net countervailable subsidies, and notified the ITC of the magnitude of the margins of dumping and the subsidy rates likely to prevail were the orders revoked.⁴

¹ See Antidumping Duty Orders: Lightweight Thermal Paper From Germany and the People's Republic of China, 73 FR 70959 (November 24, 2008) and Lightweight Thermal Paper From the People's Republic of China: Notice of Amended Final Affirmative Countervailing Duty Determination and Notice of Countervailing Duty Order.

² See Initiation of Five-Year (“Sunset”) Review, 78 FR 60253 (October 1, 2013).

³ See Certain Lightweight Thermal Paper From China and Germany; Institution of Five-Year Reviews, 78 FR 60313 (October 1, 2013).

⁴ See Lightweight Thermal Paper From the People's Republic of China: Final Results of Expedited First Sunset Review of the Antidumping Duty Order, 79 FR 9879 (February 21, 2014); Lightweight Thermal Paper From the People's Republic of China: Final Results of the Expedited First Sunset Review of the Countervailing Duty Order, 79 FR 10477 (February 25, 2014); and Lightweight Thermal Paper From Germany: Final Results of the First Full Sunset Review of the Antidumping Duty Order, 79 FR 32218 (June 4, 2014).

On January 22, 2015, the ITC published its determinations, pursuant to sections 751(c) and 752(a) of the Act, that revocation of the AD and CVD orders on LWTP from the PRC would likely lead to a continuation or recurrence of material injury to an industry in the United States within a reasonably foreseeable time, but that revocation of the AD order on LWTP from Germany would not be likely to lead to the continuation or recurrence of material injury within a reasonably foreseeable time.⁵

⁵ See Lightweight Thermal Paper From China And Germany; Determination, 80 FR 3252 (January 22, 2015).

Scope of the Orders

The merchandise covered by the orders is lightweight thermal paper. The scope of the orders includes certain lightweight thermal paper, which is thermal paper with a basis weight of 70 grams per square meter (g/m²) (with a tolerance of ± 4.0 g/m²) or less; irrespective of dimensions; ⁶ with or without a base coat ⁷ on one or both sides; with thermal active coating(s) ⁸ on one or both sides that is a mixture of the dye and the developer that react and form an image when heat is applied; with or without a top coat; ⁹ and without an adhesive backing. Certain LWTP is typically (but not exclusively) used in point-of-sale applications such as ATM receipts, credit card receipts, gas pump receipts, and retail store receipts. The merchandise subject to the orders may be classified in the Harmonized Tariff Schedule of the United States (HTSUS) under subheadings 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00.¹⁰ Although HTSUS subheadings are provided for convenience and customs purposes, the written description of the scope of the orders is dispositive.

⁶ LWTP is typically produced in jumbo rolls that are slit to the specifications of the converting equipment and then converted into finished slit rolls. Both jumbo and converted rolls (as well as LWTP in any other form, presentation, or dimension) are covered by the scope of the order.

⁷ A base coat, when applied, is typically made of clay and/or latex and like materials and is intended to cover the rough surface of the paper substrate and to provide insulating value.

⁸ A thermal active coating is typically made of sensitizer, dye, and co-reactant.

⁹ A top coat, when applied, is typically made of polyvinyl acetone, polyvinyl alcohol, and/or like materials and is intended to provide environmental protection, an improved surface for press printing, and/or wear protection for the thermal print head.

¹⁰ HTSUS subheading 4811.90.8000 was a classification used for LWTP until January 1, 2007. Effective that date, subheading 4811.90.8000 was replaced with 4811.90.8020 (for gift wrap, a non-subject product) and 4811.90.8040 (for “other” including LWTP). HTSUS subheading 4811.90.9000 was a classification for LWTP until July 1, 2005. Effective that date, subheading 4811.90.9000 was replaced with 4811.90.9010 (for tissue paper, a non-subject product) and 4811.90.9090 (for “other,” including LWTP).

Continuation of the AD and CVD Orders on LWTP From the PRC

As a result of the determinations by the Department and the ITC that revocation of the AD and CVD orders on LWTP from the PRC would likely lead to a continuation or recurrence of dumping or net countervailable subsidies, and of material injury to an industry in the United States, pursuant to section 751(d)(2) of the Act, the Department hereby orders the continuation of the AD and CVD orders on LWTP from the PRC. U.S. Customs and Border Protection (CBP) will continue to collect AD and CVD cash deposits at the rates in effect at the time of entry for all imports of subject merchandise. The effective date of the continuation of the orders will be the date of publication in the Federal Register of this notice of continuation. Pursuant to section 751(c)(2) of the Act, the Department intends to initiate the next five-year review of these orders not later than 30 days prior to the fifth anniversary of the effective date of continuation.

Revocation of the AD Order on LWTP From Germany

As a result of the determination by the ITC that revocation of the AD order on LWTP from Germany would not be likely to lead to continuation or recurrence of material injury to an industry in the United States, pursuant to section 751(d)(2) of the Act, the Department is revoking the AD order on LWTP from Germany. Pursuant to section 751(d)(2) of the Act and 19 CFR 351.222(i)(2)(i), the effective date of revocation is November 24, 2013 (i.e., the fifth anniversary of the date of publication in the Federal Register of this order).¹¹

¹¹ See Antidumping Duty Orders: Lightweight Thermal Paper From Germany and the People's Republic of China, 73 FR 70959 (November 24, 2008).

Cash Deposits and Assessment of Duties for LWTP From Germany

The Department will notify CBP, 15 days after publication of this notice, to terminate the suspension of liquidation and to discontinue the collection of cash deposits on entries of the subject merchandise from Germany, entered or withdrawn from warehouse, on or after November 24, 2013. The Department will further instruct CBP to refund with interest all cash deposits on entries made on or after November 24, 2013. Entries of subject merchandise prior to the effective date of revocation will continue to be subject to suspension of liquidation and AD deposit requirements and assessments. The Department will complete any pending or requested administrative reviews of this order covering entries prior to November 24, 2013.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (sunset) reviews and notice are in accordance with sections 751(c) and (d)(2), and 777(i) the Act, and 19 CFR 351.218(f)(4).

Dated: January 26, 2015.
Paul Piquado,
Assistant Secretary for Enforcement and Compliance.

[FR Doc. 2015-01794 Filed 1-29-15; 8:45 am]

BILLING CODE 3510-DS-P